DEPARTMENT OF LABOR

Employment and Training Administration

[TA-W-55,296]

Automatic Machine & Tool Co. of Cedartown, Inc., Cedartown, GA; Notice of Termination of Investigation

Pursuant to Section 221 of the Trade Act of 1974, an investigation was initiated on July 22, 2004 in response to a petition filed by a company official on behalf of workers at Automatic Machine & Tool Company of Cedartown, Inc., Cedartown, Georgia.

The petitioner has requested that the petition be withdrawn. Consequently, the investigation has been terminated.

Signed in Washington, DC, this 29th day of July, 2004.
Elliott S. Kushner,
Certifying Officer, Division of Trade Adjustment Assistance.

[FR Doc. 04-18335 Filed 8-10-04; 8:45 am]

BILLING CODE 4510-30-P